DEPARTMENT OF ENERGY

Federal Energy Regulatory Commission

[Docket No. RP06-72-001]

Northern Border Pipeline Company; Notice of Compliance Filing

May 23, 2006.

Take notice that on May 3, 2006, Northern Border Pipeline Company (Northern Border) tendered for filing to become part of Northern Border's FERC Gas Tariff, First Revised Volume No. 1, the following tariff sheets to become effective May 1, 2006:

Substitute Third Revised Sheet No. 102A

Substitute Fifth Revised Sheet No. 103

Substitute Seventh Revised Sheet No. 105

Substitute Fourth Revised Sheet No. 106

Substitute First Revised Sheet No. 270A

Northern Border states that this filing is being made to comply with the Commission's Order issued on April 28, 2006 in Docket No. RP06-72-000, et al. (115 FERC ¶ 61,126).

Northern Border states that copies of the filing have been sent to all parties of record in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-8326 Filed 5-30-06; 8:45 am]

BILLING CODE 6717-01-P